DEPARTMENT OF ENERGY

Federal Energy Regulatory Commission

[Project No. 2210-238]

Appalachian Power Company; Notice of Application Accepted for Filing and Soliciting Comments, Motions To Intervene, Protests, and Recommendations

Take notice that the following hydroelectric application has been filed with the Federal Energy Regulatory Commission (Commission) and is available for public inspection:

a. Application Type: Application for non-project use of project lands and waters to increase water withdrawal and construct facilities.

b. Project No: 2210-238.

c. Date Filed: October 10, 2013.

d. Applicant: Appalachian Power Company (licensee).

e. Name of Project: Smith Mountain Pumped Storage Project.

f. Location: The Smith Mountain Project is located on the Roanoke River in Bedford, Campbell, Franklin, and Pittsylvania Counties, Virginia. The project does not occupy any federal lands.

g. Filed Pursuant to: Federal Power Act, 16 U.S.C. 791a-825r.

h. Applicant Contact: Mr. Frank M. Simms, Hydro Supervisor—Plant Manager II, Appalachian Power Company, 40 Franklin Road, Roanoke, VA 24011. Phone 540-985-2875.

i. FERC Contact: Rachel Price at 202-502-8907, rachel.price@ferc.gov.

j. Deadline for filing comments, motions to intervene, protests, and recommendations: December 19, 2013. The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. Please include the project number (P-2210-238) on any comments, motions to intervene, protests, or recommendations filed.

k. Description of Request: Appalachian Power Company, licensee for the Smith Mountain Pumped Storage Project, requests an amendment of the Order Approving Non-Project Use of Project Lands and Waters—Water Withdrawal Increase issued October 10, 2008. The amendment would allow the Bedford Regional Water Authority to increase its current water withdrawal from 2.999 million gallons per day (MGD) to maximum daily rate of 12 MGD. The licensee is requesting the Commission grant it non-project use of project lands and waters for the Bedford Regional Water Authority to construct and operate permanent water withdrawal facilities within the project boundary.

l. Locations of the Application: The application may be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and in the Commission's Public Reference Room located at 888 First Street NE., Room 2A, Washington, DC 20426, or by calling (202) 502-8371.

m. Individuals who would like to be electronically notified of issuances and filings related to this application should eSubscribe to docket P-2210 at http://www.ferc.gov/docs-filing/esubscription.asp. In lieu of eSubscription, individuals can be added to the Commission's mailing list by writing to the Secretary.

n. Comments, Motions To Intervene, Protests, and Recommendations: Anyone may submit comments, motion to intervene, protests, or recommendations in accordance with the requirements of Rules of Practice and Procedure, 18 CFR 385.210, .211, .214. In determining the appropriate action to take, the Commission will consider all comments, protests, or recommendations filed, but only those who file a motion to intervene in accordance with the Commission's Rules may become a party to the proceeding. Any comments, motions to intervene, protests, or recommendations must be received on or before the specified comment date for the particular application.

o. Filing and Service of Responsive Documents: Any filing must (1) bear in all capital letters the title “COMMENTS”, “PROTESTS”, “RECOMMENDATIONS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, protests, recommendations, or motions to intervene must set forth their evidentiary basis and otherwise comply with the requirements of 18 CFR 4.34(b). Agencies may obtain copies of the application directly from the applicant. A copy of any protest or motion to intervene must be served upon each representative of the applicant specified in the particular application. If an intervenor files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: November 20, 2013.
Kimberly D. Bose,
Secretary.

[FR Doc. 2013-28546 Filed 11-27-13; 8:45 am]

BILLING CODE 6717-01-P